DEPARTMENT OF ENERGY

Federal Energy Regulatory Commission

[Project No. 12576-011]

Western Minnesota Municipal Power Agency; Notice of Application Accepted for Filing, Soliciting Comments, Motions To Intervene, and Protests

Take notice that the following hydroelectric application has been filed with the Commission and is available for public inspection:

a. Type of Application: Amendment to License

b. Project No: 12576-011

c. Date Filed: June 04, 2013

d. Applicant: Western Minnesota Municipal Power Agency

e. Name of Project: Red Rock Hydroelectric Project

f. Location: The project is located at the U.S. Army Corps of Engineers Lake Red Rock Dam on the Des Moines River in Marion County, Iowa.

g. Filed Pursuant to: Federal Power Act, 16 U.S.C. 791a-825r

h. Applicant Contact: Raymond J. Wahle PE, Missouri River Energy Services, 3724 W. Avera Drive, PO Box 88920, Sioux Falls, SD 57109, Phone: (605) 330-6963, or email: rwahle@mrenergy.com.

i. FERC Contact: Mr. Mo Fayyad (202) 502-8759 or mfayyad@ferc.gov.

j. Deadline for filing comments, motions to intervene, and protests: September 9, 2013.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-12576-011) on any comments or motions filed.

k. Description of Request: The applicant proposes to amend the unconstructed project's license to modify the design of the intake structure, the upstream submerged weir, the penstock geometry, the penstock liner, the reinforced concrete diaphragm wall, the cutoff wall, the temporary construction laydown yard/future vehicle turnaround at the intake structure, the flow bypass conduit, and the substation elevation. The applicant does not propose any change to the authorized installed capacity or maximum hydraulic capacity. The proposed changes would revise the project boundary, which would increase the area of Lands of the United States within the project boundary from 28.3 acres to 31.1 acres.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number (P-12576-011) excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Any filing made by an intervener must be accompanied by proof of service on all persons listed in the service list prepared by the Commission in this proceeding, in accordance with 18 CFR 4.34(b) and 385.2010.

Dated: August 5, 2013.
Kimberly D. Bose,
Secretary.

[FR Doc. 2013-19291 Filed 8-8-13; 8:45 am]

BILLING CODE 6717-01-P